POSTAL SERVICE

39 CFR Part 111

New Automation Requirements for Detached Address Labels

AGENCY: Postal Service™.

ACTION: Proposed rule.

SUMMARY: The Postal Service proposes revisions to the Mailing Standards of the United States Postal Service, Domestic Mail Manual (DMM®) for detached address labels (DALs). To increase efficiency and reduce handling costs, we propose that DALs accompanying saturation mailings of Periodicals or Standard Mail® flats must be automation-compatible and have a correct delivery point POSTNET™ barcode or Intelligent Mail® barcode with an 11-digit routing code. This proposal would not apply to DALs with simplified addresses.

To be consistent with the current requirement for return addresses, we are proposing to add DALs to DMM 602.1.5.3, Required Use of Return Address.

DATES: We must receive your comments on or before September 26, 2008.

ADDRESSES: Mail or deliver written comments to the Manager, Mailing Standards, U.S. Postal Service, 475 L'Enfant Plaza, SW., Room 3436, Washington, DC 20260-3436. You may inspect and photocopy all written comments, Monday through Friday between 9 a.m. and 4 p.m., USPS Headquarters Library, 475 L'Enfant Plaza, SW., 11th Floor N, Washington, DC. Do not submit comments via fax or e-mail.

FOR FURTHER INFORMATION CONTACT: Monica Grein at 202-268-8411.

SUPPLEMENTARY INFORMATION: On June 7, 2007, at the request of many mailers, we revised our standards to allow advertising on the front of DALs provided that the DALs were barcoded and automation-compatible (see Postal Bulletin 22208 and DMM 602.4.2.5.b). This change provided mailers with the ability to offset the DAL surcharge, implemented in May 2007, with new opportunities for advertising revenue.

Current mailing standards do not require DALs that accompany saturation mailings of Periodicals or Standard Mail flats to be automation-compatible and barcoded unless advertising appears on the front. Automation-compatible and barcoded DALs may be processed with letter mail in delivery point sequence (DPS) order, thereby eliminating the need for carriers to manually case the labels.

Except for DALs prepared with simplified addresses, our proposal would require that all DALs accompanying saturation mailings of Periodicals or Standard Mail flats be automation-compatible and have a correct delivery point POSTNET barcode or Intelligent Mail barcode with an 11-digit routing code.

We propose to allow mailers 90 days after the publication date of the Federal Register final rule to comply with the new standards for DALs, to afford mailers time to exhaust existing stock. We suggest that mailers work with their local mailpiece design analyst (MDA) to ensure that any new DALs accompanying saturation mailings of Periodicals or Standard Mail flats meet the new standards.

Ninety days from the publication of the Federal Register final rule, saturation flats mailings presented with DALs that are not automation-compatible and barcoded will not qualify for saturation prices but may be entered at the basic carrier route price for Periodicals mailings or the basic Enhanced Carrier Route price for Standard Mail mailings.

Although exempt from the notice and comment requirements of the Administrative Procedure Act [5 U.S. C. of 553(b), (c)] regarding proposed rulemaking by 39 U.S.C. 410(a), the Postal Service invites public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, 3633, and 5001.

2. Revise the following sections of the Mailing Standards of the United States Postal Service, Domestic Mail Manual (DMM) as follows:

* * * * *

600 Basic Standards for All Mailing Services

* * * * *

602 Addressing

1.0 Elements of Addressing

* * * * *

1.5 Return Addresses

* * * * *

1.5.3 Required Use of Return Addresses

The sender's domestic return address must appear legibly on:

[Add new item m to 1.5.3 as follows:]

* * * * *

m. Detached addressed labels (DALs).

* * * * *

4.0 Detached Address Labels (DALs)

4.1 DALs Use

* * * * *

[Revise text of 4.1.2 to require that DALs accompanying saturation mailings of Periodicals or Standard Mail flats be automation-compatible as follows:]

4.1.2 Periodicals or Standard Mail Flats Saturation Mailings

Saturation mailings of unaddressed Periodicals or Standard Mail flats may be mailed with detached address labels (DALs). DALs accompanying saturation mailings of Periodicals or Standard Mail flats must be automation-compatible under 201.3.0. For this standard, saturation mailing means a mailing sent to at least 75% of the total addresses on a carrier route or 90% of the residential addresses on a route, whichever is less. Deliveries are not required to every carrier route of a delivery unit.

* * * * *

4.2 Label Preparation

4.2.1 Label Construction

Each DAL must be made of paper or cardboard stock that is not folded, perforated, or creased, and that meets these measurements:

* * * * *

[Revise item c of 4.2.1 and add new items d and e as follows:]

c. At least 0.007 inch thick except under 4.2.1.d.

d. If more than 4¼ inches high or more than 6 inches in length, must be at least 0.009 inch thick.

e. Must have an aspect ratio (length divided by height) between 1.3 to 2.5, inclusive.

4.2.2 Addressing

[Revise text of 4.2.2 to require a POSTNET or Intelligent Mail barcode with a delivery point routing code as follows:]

The address for each item must be placed on a DAL, parallel to the longest dimension of the DAL, and must not appear on the item it accompanies. The DAL must contain the recipient's delivery address and the mailer's return address. A ZIP+4 code or 5-digit ZIP code is required unless a simplified address format is used. DALs that accompany saturation mailings of Periodicals or Standard Mail flats must include a correct delivery point POSTNET barcode or Intelligent Mail barcode with an 11-digit routing code (see 708.4) except when using a simplified address.

* * * * *

4.2.5 Other Information

In addition to the information described in 4.2.2 and 4.2.4 and an indicium of postage payment, only the following may appear on the front of a DAL:

* * * * *

b. Advertising, under the following conditions:

[Delete item 1 and renumber current items 2 and 3 as new items 1 and 2.]

* * * * *

We will publish an appropriate amendment to 39 CFR 111 to reflect these changes if our proposal is adopted.

Neva R. Watson,
Attorney, Legislative.

[FR Doc. E8-19803 Filed 8-26-08; 8:45 am]

BILLING CODE 7710-12-P